SURFACE TRANSPORTATION BOARD

[Docket No. FD 36791]

The Central Railroad Company of Indiana—Trackage Rights Exemption—CSX Transportation, Inc.

The Central Railroad Company of Indiana (CIND), a Class III rail carrier, has filed a verified notice of exemption under 49 CFR 1180.2(d)(7) for CIND's acquisition of trackage rights pursuant to an amendment of an existing trackage rights agreement between CIND and CSX Transportation, Inc. (CSXT). In 1991, CSXT granted CIND overhead trackage rights over approximately 6 miles of rail line.¹ Pursuant to a written amendment to the 1991 agreement,² CSXT has agreed to extend the trackage rights by 1,135 feet between Ivorydale Junction and NA Tower (+−milepost BB 7.5) to permit CIND to interchange with the Indiana & Ohio Railway Company.³

¹ According to the verified notice, the “Original Joint Trackage” consists of: CSXT's Cincinnati Terminal Subdivision via Oklahoma Track, #3 Main Track and #1 and #2 Mains and such other terminal trackage as may from time to time be specified by CSXT, between the connection of Oklahoma Track with the Shelbyville Line near the east end of Storrs Yard at or about milepost BC 1 and the connection of #1 Main with the trackage of Norfolk Southern Railway Company (NSR) at Ivorydale Junction, Ohio.

² An executed, redacted version of the 1991 trackage rights agreement and amendment were filed with the verified notice. CIND also submitted under seal an executed, unredacted version of the agreement and amendment and filed a motion for protective order. That motion is addressed in a separate decision.

³ CIND will also continue to have the ability to interchange with NSR that was available under the original trackage rights agreement.

The transaction may be consummated on or after July 27, 2024, the effective date of the exemption (30 days after the verified notice was filed).

As a condition to this exemption, any employees affected by the exempted transaction will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed no later than July 19, 2024 (at least seven days before the exemption becomes effective).

All pleadings, referring to Docket No. FD 36791, must be filed with the Surface Transportation Board either via e-filing on the Board's website or in writing addressed to 395 E Street SW, Washington, DC 20423-0001. In addition, a copy of each pleading must be served on CIND's representative, Eric M. Hocky, Clark Hill PLC, Two Commerce Square, 2001 Market St., Suite 2620, Philadelphia, PA 19103.

According to CIND, this action is categorically excluded from environmental review under 49 CFR 1105.6(c) and from historic preservation reporting requirements under 49 CFR 1105.8(b).

Board decisions and notices are available at www.stb.gov.

Decided: July 8, 2024.
By the Board, Scott M. Zimmerman, Acting Director, Office of Proceedings.
Stefan Rice,
Clearance Clerk.

[FR Doc. 2024-15315 Filed 7-11-24; 8:45 am]

BILLING CODE 4915-01-P